DEPARTMENT OF ENERGY

Federal Energy Regulatory Commission

Combined Notice of Filings

Take notice that the Commission has received the following Natural Gas Pipeline Rate and Refund Report filings:

Filings Instituting Proceedings

Docket Numbers: PR23-25-000.

Applicants: Southern California Gas Company.

Description: § 284.123(g) Rate Filing: Offshore_Delivery_Service_Rate_Revision_January_2023 to be effective 1/25/2023.

Filed Date: 1/26/23.

Accession Number: 20230126-5000.

Comment Date: 5 p.m. ET 2/16/23.

284.123(g) Protest: 5 p.m. ET 3/27/23.

Docket Numbers: PR23-26-000.

Applicants: Columbia Gas of Maryland, Inc.

Description: § 284.123 Rate Filing: CMD Rates Effective Jan 1 2023 to be effective 1/1/2023.

Filed Date: 1/26/23.

Accession Number: 20230126-5084.

Comment Date: 5 p.m. ET 2/16/23.

Docket Numbers: PR23-27-000.

Applicants: Public Service Company of Colorado.

Description: § 284.123(g) Rate Filing: Statement of Rates & Statement of Op. Conditions_eff 01.01.23 (Normal) to be effective 1/1/2023.

Filed Date: 1/27/23.

Accession Number: 20230127-5035.

Comment Date: 5 p.m. ET 2/17/23.

284.123(g) Protest: 5 p.m. ET 3/27/23.

Docket Numbers: RP23-372-000.

Applicants: Great Lakes Gas Transmission Limited Partnership.

Description: Compliance filing: Semi-Annual Transporter's Use Report January 2023 to be effective N/A.

Filed Date: 1/26/23.

Accession Number: 20230126-5136.

Comment Date: 5 p.m. ET 2/7/23.

Docket Numbers: RP23-373-000.

Applicants: Big Sandy Pipeline, LLC.

Description: Compliance filing: Big Sandy Fuel Filing Effective 3-1-2023 to be effective N/A.

Filed Date: 1/27/23.

Accession Number: 20230127-5046.

Comment Date: 5 p.m. ET 2/8/23.

Docket Numbers: RP23-374-000.

Applicants: Ruby Pipeline, L.L.C.

Description: § 4(d) Rate Filing: RP 2023-01-27 Negotiated Rate Agreements to be effective 3/1/2023.

Filed Date: 1/27/23.

Accession Number: 20230127-5048.

Comment Date: 5 p.m. ET 2/8/23.

Docket Numbers: RP23-375-000.

Applicants: Wyoming Interstate Company, L.L.C.

Description: § 4(d) Rate Filing: Fuel_LU Quarterly Update Filing Mar. 1, 2023 to be effective 3/1/2023.

Filed Date: 1/27/23.

Accession Number: 20230127-5059.

Comment Date: 5 p.m. ET 2/8/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-1711-000.

Applicants: Texas Gas Transmission, LLC.

Description: Refund Report: 2022 Cash Out Filing to be effective N/A.

Filed Date: 1/27/23.

Accession Number: 20230127-5025.

Comment Date: 5 p.m. ET 2/8/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2023.
Kimberly D. Bose,
Secretary.

[FR Doc. 2023-02257 Filed 2-2-23; 8:45 am]

BILLING CODE 6717-01-P